SECURITIES AND EXCHANGE COMMISSION

[Release No. 34-95263; File No. SR-MRX-2022-04]

Self-Regulatory Organizations; Nasdaq MRX, LLC; Notice of Withdrawal of Proposed Rule Change To Amend MRX's Pricing Schedule at Options 7 To Assess Membership, Port and Market Data Fees

July 12, 2022.

On May 2, 2022, Nasdaq MRX, LLC (“MRX”) filed with the Securities and Exchange Commission (“Commission”), pursuant to Section 19(b)(1) of the Securities Exchange Act of 1934 ¹ and Rule 19b-4 thereunder,² a proposed rule change to assess membership, port and market data fees. The proposed rule change was published for comment in the Federal Register on May 18, 2022.³

¹ 15 U.S.C. 78s(b)(1).

² 17 CFR 240.19b-4.

³ See Securities Exchange Act Release No. 94901 (May 12, 2022), 87 FR 30305.

On June 29, 2022, MRX withdrew the proposed rule change (SR-MRX-2022-04).

For the Commission, by the Division of Trading and Markets, pursuant to delegated authority.⁴
⁴ 17 CFR 200.30-3(a)(12).
J. Matthew DeLesDernier,
Assistant Secretary.

[FR Doc. 2022-15218 Filed 7-15-22; 8:45 am]

BILLING CODE 8011-01-P